DEPARTMENT OF DEFENSE

Department of the Air Force

HQ USAF Scientific Advisory Board Notice of Meeting

AGENCY: Department of the Air Force, HQ USAF Scientific Advisory Board, DoD.

ACTION: Notice of meeting.

SUMMARY: Pursuant to Public Law 92-463, notice is hereby given of the forthcoming meeting of the Air Force Scientific Advisory Board. The purpose of the meeting is to hold the winter quarterly meeting, discuss the results of the Fiscal Year 2007 Science and Technology Quality Review, and plan for accomplishing the five, Air Force leadership-directed studies for Fiscal Year 2007. The titles of the five studies are: Implications of Cyber Warfare, Operational Utility of Small Satellites, Theater Ballistic Missile Threat Assessment, Thermal Management Technology Solutions, Use and Sustainment of Composites in Aircraft. The meeting will be open to the public from 8 a.m. to 9 a.m. for opening remarks from the Chair and a briefing from Public Affairs on relations with the media. The remainder of the meeting will be closed to the public to discuss matters covered under subsection (c), subparagraphs (1), (4), and (9)(B) of Section 552b, Title 5, United States Code.

DATES: 16 January 2007.

ADDRESSES: 1560 Wilson Blvd., Suite 400, Arlington, VA 22209.

FOR FURTHER INFORMATION CONTACT: To attend the open portion of the 16 January 2007 meeting, contact Lieutenant Colonel Kyle Gresham, Deputy Executive Director, Air Force Scientific Advisory Board, 1180 Air Force Pentagon, Washington, DC 20330-1040, (703) 697-4811.

Bao-Anh Trinh,
Air Force Federal Register Liaison Officer.

[FR Doc. E6-22387 Filed 12-28-06; 8:45 am]

BILLING CODE 5001-04-P